DEPARTMENT OF TRANSPORTATION

Maritime Administration

[Docket No. MARAD-2019-0162]

Request for Comments on the Approval of a Previously Approved Information Collection: Maritime Administration (MARAD) Jones Act Vessel Availability Determinations

AGENCY: Maritime Administration, DOT.

ACTION: Notice and request for comments.

SUMMARY: The Maritime Administration (MARAD) invites public comments on our intention to request the Office of Management and Budget (OMB) approval to renew an information collection. The information to be collected is U.S.-flag coastwise qualified Jones Act Vessel availability information. We are required to publish this notice in the Federal Register by the Paperwork Reduction Act of 1995.

DATES: Comments must be submitted on or before December 16, 2019.

ADDRESSES: You may submit comments identified by Docket No. MARAD-2019-0162 through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Specific Issue for Comment

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Michael Hokana, (202) 366-0760, Office of Cargo and Commercial Sealift, Maritime Administration, U.S. Department of Transportation, 1200 New Jersey Avenue SE, Washington, DC 20590, Email: Michael.hokana@dot.gov.

SUPPLEMENTARY INFORMATION:

Title: Maritime Administration (MARAD) Jones Act Vessel Availability Determinations.

OMB Control Number: 2133-0545.

Type of Request: Renewal of a previously approved collection.

Abstract: Pursuant to 46 U.S.C. 501(b), the Maritime Administrator is required to make determinations of the availability of qualified United States flag capacity to carry coastwise cargo in connection with all requests for waivers of the Jones Act (46 U.S.C. 55102). This information collection supports that mission.

Respondents: Respondents include but are not limited to coastwise qualified vessel owners, operators, charterers, brokers and representatives.

Affected Public: Business or other for profit.

Estimated Number of Respondents: 85.

Estimated Number of Responses: 255/3 responses per respondent.

Estimated Hours per Response: .5 Hrs.

Annual Estimated Total Annual Burden Hours: 127.5.

Frequency of Response: Annually.

(Authority: The Paperwork Reduction Act of 1995; 44 U.S.C. Chapter 35, as amended; and 49 CFR 1.93.)

* * * * *

Dated: October 8, 2019.
By Order of the Maritime Administrator.
T. Mitchell Hudson, Jr.,
Secretary, Maritime Administration.

[FR Doc. 2019-22348 Filed 10-11-19; 8:45 am]

BILLING CODE 4910-81-P